DEPARTMENT OF TRANSPORTATION

Federal Transit Administration

Section 5309 Discretionary Bus and Bus Facilities Program

AGENCY: Federal Transit Administration (FTA), DOT.

ACTION: Notice of Availability of FTA Bus and Bus Facilities Program Funds: Solicitation of Project Proposals for Veterans Transportation and Community Living Initiative grants.

SUMMARY: The Federal Transit Administration (FTA) announces the availability of discretionary Section 5309 Bus and Bus Facilities grant funds in support of the Federal Interagency Coordinating Council on Access and Mobility's (CCAM or Coordinating Council) Veterans Transportation and Community Living Initiative (VTCLI or Initiative). This grant opportunity will be funded using $30 million in unallocated Discretionary Bus and Bus Facilities Program funds, authorized by 49 U.S.C. 5309(b) of the Safe, Accountable, Flexible, Efficient, Transportation Equity Act: A Legacy For Users (SAFETEA-LU), Public Law 109-59, August 10, 2005.

This VTCLI grant opportunity makes funds available to local governmental agencies to finance capital costs of implementing, expanding, or increasing access to local One-Call/One-Click Transportation Resource Centers. These Centers simplify access to transportation for the public by connecting customers in one place to rides and transportation options provided in their locality by a variety of transportation providers and programs. This notice includes priorities established by the Coordinating Council's partnership for these discretionary funds, the criteria the interagency review panel will use to identify meritorious projects for funding, and describes how to apply. Additionally, the Department of Veterans Affairs (VA) will make mobility management training assistance and support available to Veteran's Affairs networks in communities selected for award. The Department of Labor (DOL) will make social communication technologies and training available to selected grantees in order to actively engage veterans, military service personnel and families as well as others in the community in the development of plans to better respond to the transportation needs of veterans and military service families.

This announcement is available on the FTA's Web site, on the Veterans Transportation and Community Living initiative Web page at: http://www.fta.dot.gov/veterans. FTA will announce final selections on its Web site and in the Federal Register. A synopsis of this announcement will be posted in the FIND module of the government-wide electronic grants Web site at http://www.grants.gov. Proposals must be submitted to FTA, electronically, through the GRANTS.GOV “APPLY” function.

DATES: Complete proposals for the discretionary Veterans Transportation and Community Living grants must be submitted by September 16, 2011. The proposals must be submitted electronically through the GRANTS.GOV Web site. Applicants who have not already done so should initiate the process of registering on the GRANTS.GOV site immediately to ensure completion of registration before the deadline for submission.

ADDRESSES: Proposals must be submitted electronically at http://www.grants.gov.

FOR FURTHER INFORMATION CONTACT: For general program information, as well as proposal-specific questions, please send an e-mail to VeteransTransportation@dot.gov or contact Doug Birnie, (202) 366-1666, or, Pamela Brown, (202) 493-2503. A TDD is available at 1-800-877-8339 (TDD/FIRS).

SUPPLEMENTARY INFORMATION:

Table of Contents

I. Funding Opportunity Description

II. FTA and Other Partnership Award Information

III. Eligibility Information

IV. Proposal Submission Information

V. Proposal Review, Selection and Notification

VI. Award Administration

VII. Agency Contacts

Appendix A: FTA Regional Contacts

I. Funding Opportunity Description

A. Authority

The program is authorized under 49 USC Section 5309(b) as amended by Section 3011 of SAFETEA-LU:

“The Secretary may make grants under this section to assist State and local governmental authorities in financing capital projects * * * to replace, rehabilitate, and purchase buses and related equipment and to construct bus-related facilities, including programs of bus and bus-related projects for assistance to subrecipients that are public agencies, private companies engaged in public transportation, or private non-profit organizations.”

Eligible capital projects, as defined in 49 U.S.C. 5302(a)(1) include:

“* * * acquiring and constructing equipment or facilities for use in public transportation” (including design and engineering), “transit-related intelligent transportation systems”, and “the introduction of new technology through innovations and improved products, into public transportation.”

B. Background

President Obama has made the care and support of military families a top national security policy priority. In a January, 2011 report, “Strengthening Our Military Families: Meeting America's Commitment,” the White House noted the importance of “harnessing resources and expertise across the Federal Government [to improve] the quality of military family life [and help] communities more effectively support military families.”

Reliable mobility has direct and substantial impacts on many of the priorities presented in the report—such as promoting housing security among veterans, developing career and educational opportunities, and reducing barriers to employment. To fulfill the President's objectives on behalf of veterans, active duty service persons and their families, members of the Federal Interagency Coordinating Council on Access and Mobility came together with Veteran and Military Service Organizations (VSO/MSO) around the country to discuss transportation challenges. They agreed that:

1. When it comes to transportation, more effective and consistent coordination is needed among Federal, state, and community-based programs that already deliver or sponsor services to veterans and people with disabilities where they live; and,

2. Enhancing veterans' awareness of, and access to, transportation choices in their communities is integral to successfully reintegrating these men and women and their families.

In order to achieve these outcomes, several CCAM members—the Departments of Transportation, Veterans Affairs, Labor, and Health and Human Services—have joined with the Department of Defense to launch the Veterans Transportation and Community Living Initiative (VTCLI). As part of this initiative, the FTA will make available $30 million in unallocated Section 5309 Bus and Bus Facilities funds under this notice. With these funds, FTA will help communities address transportation needs of veterans, military families, people with disabilities and other transportation disadvantaged populations acquire technologies to implement One-Call/One Click Transportation Resource Centers (One-Call/One-Click Centers). These local One-Call/One-Click Centers, supported with FTA funding, will be complemented by training, technical assistance, outreach and social media technology investments provided by FTA and other participating agencies in the VTCLI.

C. Program Purpose

Building on the success of the FTA Office of United We Ride (UWR) “One Call Center” model, the Veterans Transportation and Community Living initiative will help communities build or expand local One-Call/One-Click Centers to bring together transportation services available to the general public with those available to customers of human services programs, and especially services for veterans and military families. Coordinating transportation services will promote improved access to community services and employment, and will advance the integration of those with disabilities into their communities.

Based on its mission to care for America's veterans, the Department of Veterans Affairs (VA) provides transportation only to and from VA medical facilities. As our existing veterans age and as veterans and injured service members returning from Iraq and Afghanistan transition from active duty into the VA system need reliable transportation options and services beyond those the VA is able to provide in order to maintain or regain an active community life.

In many communities, transportation resources already exist for those who are not able to drive themselves. Yet all too often, members of the veterans and military communities are unable to participate fully in their communities because they aren't aware of the existing transportation resources, don't know how to access them, or don't participate in the transportation planning and the resource allocation processes.

The one-call model requires coordination efforts that ensure local and regional transportation planners, providers, and Federal agencies work together more effectively to help veterans, their families and other community members tap into any and all mobility options that meet their needs—whether it's picking up a ride from a fellow college student to get to campus or arranging for a wheelchair-accessible van to get to a physical therapy appointment. Veterans and military families represent a population with needs that have not traditionally been fully considered or addressed by transportation coordinators and providers around the nation. Therefore, improving transportation options for America's veterans, service members and their families will help to integrate these valued members of our society. The VTCLI will award a funding, technical assistance and training package to communities whose proposals:

1. Identify transportation and mobility needs of their veterans and military community;

2. Propose to create or increase access to a community One-Call/One-Click Transportation Resource Center or expand existing community One-Call/One-Click Center to include transportation resources and address identified needs of veterans and military families;

3. Commit to increase the use of mobility management techniques within the VA system; and,

4. Commit to use innovative or technology-based approaches to increase involvement in locally coordinated transportation planning to address additional mobility needs of veterans and members of the military community.

II. FTA and Other Partnership Award Information

A. FTA Award Information

Federal transit funds are available to State or local governmental authorities as recipients and other public, private and non-profit organizations as subrecipients at up to 80% of the project cost, requiring a 20% local match. FTA will award a maximum of $2 million for any single grant, but will award as many grants as possible with the available $30 million based on the number and size of funding requests. The evaluation team will consider geographical diversity as well as distribution amongst large urban, small urban and rural areas in making funding recommendations. The FTA Administrator will determine the final selection and amount of funding for each project. Selected projects will be announced in November 2011. FTA will publish the list of all selected projects and funding levels in the Federal Register.

B. Other Partnership Award Information

Upon selection to receive FTA Section 5309 funds, communities will also receive a combination of technical assistance and training, as listed below:

1. The Department of Veterans Affairs will support VA hospitals and medical facilities in or nearest the selected communities by providing mobility management training assistance and/or staff positions.

2. DOL's Office of Disability Employment Policy will fund online, collaborative workspaces for communities to use in planning and implementing their one-call center and further transportation coordination efforts.

3. The FTA Office of United We Ride, through its transportation technical assistance centers, will provide technical assistance to each awardee to assist in building or expanding a One-Call/One-Click Center to address customer transportation connections and issues.

III. Eligibility Information

A. Eligible Applicants

Eligible applicants for Section 5309 funds under this program are Direct Recipients under FTA's Section 5307 Urbanized Area Formula program, local governments, States, and Indian Tribes. States may submit consolidated proposals for projects in a given State.

Proposals may contain projects to be implemented by the recipient or its subrecipients. Eligible subrecipients of FTA funding include: Public agencies, private non-profit organizations, including VSOs and MSOs, and private providers engaged in public transportation.

B. Eligible Expenses

SAFETEA-LU grants authority to the Secretary of Transportation to make grants to assist State and local governmental authorities in financing capital projects to improve public transportation. Eligible capital projects, defined in 49 U.S.C. 5302(a)(1) includes “acquiring and constructing equipment or facilities for use in public transportation” (including design and engineering), “transit-related intelligent transportation systems,” and “the introduction of new technology through innovations and improved products, into public transportation.”

Projects eligible for funding under the Veterans Transportation and Community Living Initiative must focus on the implementation of One-Call/One-Click Centers and related transportation coordination. Eligible expenses under the Initiative include capital expenses related to the establishment of a One-Call/One-Click Center. These costs can include: hardware purchases (computers, servers); in-vehicle technology (automatic vehicle location systems, communication devices, mobile data terminals); software (scheduling & dispatching, communications, billing, consumer mobile applications); facility-related capital (purchase, lease, alteration); design and engineering, including consultant costs; and project administration (not to exceed 10% of costs).

Note: Unlike other Section 5309 competitive programs, vehicle acquisition and preventive maintenance costs are not eligible under this grant opportunity. Additionally, mobility management transportation coordination expenses to support the operating expenses of Centers are not an eligible capital cost under the Section 5309 program, but are eligible under other FTA programs.

C. Cost Sharing

Costs will be shared at the following ratio: 80% FTA/20% local contribution, unless the grantee requests a lower Federal share. FTA will not approve deferred local share under this program.

IV. Proposal Submission Information

A. Proposal Process

An applicant may submit a project whereby funding for capital elements would be expended during the design, development, procurement and implementation stages of the One Call Center. The project would, however, need to be ready to actively initiate these stages upon receiving a grant and would need to complete the project in a reasonable period, in order to provide the new or enhanced coordinated services as soon as practicable.

Project proposals must be submitted electronically through GRANTS.GOV. Complete proposals for the Veterans Transportation and Community Living Initiative must be submitted electronically through the GRANTS.GOV Web site no later than September 16, 2011.

Applicants are encouraged to begin the process of registration on the GRANTS.GOV site well in advance of the submission deadline. Registration is a multi-step process, which may take several weeks to complete before a proposal can be submitted. In addition to the mandatory SF424 Form that will be downloaded from GRANTS.GOV, FTA requires applicants to complete the Supplemental FTA Form (Applicant and Proposal Profile) for this Initiative. The supplemental form provides guidance and a consistent format for applicants to respond to the criteria outlined in this Notice and described in detail on the FTA Web site at the program Web site: http://www.fta.dot.gov/veterans.

Applicants must use this Supplemental Form and attach it to their submission in GRANTS.GOV to successfully complete the application process. Within 24-48 hours after submitting an electronic proposal, the applicant should receive an e-mail validation message from GRANTS.GOV. The validation will state whether GRANTS.GOV found any issues with the submitted application. As an additional notification, FTA's system will notify the applicant if there are any problems with the submitted Supplemental FTA Form. If making a resubmission for any reason, include all original attachments regardless of which attachments were updated. Complete instructions on the proposal process can be found at http://www.fta.dot.gov/veterans.

Important: FTA urges applicants to submit their proposal at least 72 hours prior to the due date to allow time to receive the validation message and to correct any problems that may have caused a rejection notification. Submissions received after September 16, 2011 will not be accepted.

B. Proposal Content

1. Proposal Information

This provides basic sponsor identifying information, including:

a. Applicant's name and FTA recipient ID number.

b. Contact Information for notification of project selection (including contact name, title, address, congressional district, e-mail, fax and phone number).

c. Description of services provided by the agency including areas served.

d. Eligibility information.

e. A description of the agency's technical, legal and financial capacity to implement the proposed project. Some of this information is included in Standard Form 424 when applying through GRANTS.GOV.

f. For the Veterans Transportation and Community Living Initiative please select “Other” for project type and indicate “VTCLI One-Call/One-Click Transportation Resource Center Project” in the text box.

g. Applicants may ignore the “fleet age” section.

2. Proposal Information

Every proposal must:

a. Describe concisely, but completely, the project scope to be funded. As FTA may select to only partially fund some project proposals (see below), the scope should be “scalable” with specific components of independent utility clearly identified.

b. Address each of the evaluation criteria separately, demonstrating how the project responds to each criterion.

c. Provide a basic line-item budget for the total project, describing the various key components of the project and estimating their cost.

NOTE: Project proposals may be at different stages of development. Some projects may be oriented to design and development of a new One Call/One Click Center while other proposers may be seeking these capital funds to upgrade or expand the scope of services already offered in another context. Proposals may use estimated costs for implementation if exact costs are unknown prior to development. Scalable guidelines for cost estimation of one-call technology are available on the FTA Web site.

d. Provide the Federal amount requested and document the matching funds, including amount and source of the match, while demonstrating strong local or private sector financial participation in the project.

e. Provide an estimated project time-line and major milestones.

f. Congressional Districts (Place of Performance)—Enter the congressional district(s) in which the project will be implemented.

V. Proposal Review, Selection and Notification

A. Project Evaluation Criteria

As an initiative of the CCAM, the VTCLI should not create narrowly focused programs or services. Applicants must identify how the proposal will enhance and/or increase transportation or mobility benefits to other community members, particularly, transportation disadvantaged populations.

Projects will be evaluated by an interagency review team based on the proposals submitted according to: (1) Planning and prioritization at the local/regional level; (2) readiness; (3) technical, legal and financial capacity; and (4) demonstration of need.

Each applicant is encouraged to demonstrate the responsiveness of a project to all of the selection criteria with the most relevant information that the applicant can provide, regardless of whether such information has been specifically requested, or identified, in this notice.

The review panel will assess the extent to which a project addresses the following criteria.

1. Planning and Prioritization at the Local/Regional Level

a. Demonstrate that the project can be included in the financially-constrained Transportation Improvement Program (TIP)/Statewide Transportation Improvement Program (STIP). If the project is selected, the project must be in TIP before grant can be awarded.

b. Local support is demonstrated by availability of local match and letters of support for project.

c. Applicants are required to form partnerships with the following types of organizations or service providers:

i. Transportation organizations, which include, but are not limited to: transit agencies, brokers, taxis, volunteer driver services; planning agencies, such as, MPO, and local coordinated plan's public transit/human services lead agency;

ii. Veteran/Military Governmental Service Providers, which include, but are not limited to: VA medical center networks, DoD recovery care programs, Military bases & hospitals, and other medical providers;

iii. Veteran/Military Service which include, but are not limited to: Veterans of Foreign Wars, Disabled American Veterans; and Military Family Organizations, which include, but are not limited to: Wounded Warrior Project, Blue Star Families, National Military Family Association; and,

iv. Existing One-Call/One-Click Service or Transportation Centers in the community, if any. As the goal of United We Ride is to improve coordination and eliminate silos of operation, if the new One-Call/One-Click Transportation Resource Center will stand-alone as its own entity, the proposer must indicate that there are either no existing One-Call/One-Click Service or Transportation Centers in the community OR provide a strong justification why a separate One-Call/One-Click Transportation Resource Center will produce the best outcomes for the community and document the partnerships through letters of support.

v. Applicants must also indicate how the partners were involved in the proposal development and how they will participate in its implementation. Proposals without proof of partnerships with all four of the above-listed organizations will not be considered.

d. Applicants should also consider and develop partnerships with additional groups beyond those required above. Partnerships with employment, disability, or aging groups will increase a proposal's chance of selection.

Applicants should consider including other groups in the proposal process, including:

i. Employers, workforce development and training agencies, etc.

ii. Independent living/aging organizations (e.g., Centers for Independent Living, Senior Centers, Aging and Disability Resource Centers)

iii. Local political officials

e. Applicants may also provide documentation and/or descriptions of any additional partners who participated in the planning and development of their proposal, if applicable.

f. Communities must include a letter of endorsement from the nearest VA Medical Center Director in order for the VA Medical healthcare network to receive supplemental VA-sponsored technical assistance and support.

2. Readiness Justification

Address all of the following points in the Project Readiness Justification:

a. Indicate the timeframe for implementation of the project and obligation of funds. If the timeline for either is expected to take more than 18 months, please mark “18 Months” and indicate the expected timeline in the “Project Readiness Justification” section.

b. Please indicate the short-term, mid-range and long-term goals for the project.

c. Indicate prior experience or involvement in regional coordinated transportation and human services planning, including indicating:

i. When was the most recent coordinated public transit-human services transportation plan (“coordinated plan”) developed?

ii. Have the applicant and any proposed subrecipients previously been involved in developing their community's coordinated plan?

d. Indicate prior work on veterans/military family mobility issues, including addressing the following questions:

i. Has the community taken steps prior to the VTCLI to address the mobility needs of local veterans and military families?

ii. Have veterans/military family needs previously been addressed in the coordinated plan?

iii. If not, is there a commitment to develop a component to address current veterans/military needs in the current or new coordinated plan or an alternative mechanism if there is no coordinated plan in the community?

e. Indicate prior work on One-Call/One-Click Centers, including addressing the following questions:

i. Does the community have an existing transportation One-Call/One-Click Center?

ii. If not, has the community identified the need for a One-Call/One-Click Center in its local coordinated public transit/human services transportation plan?

iii. If so, has the existing One-Call/One-Click Center employed any veterans or military family members?

iv. Have you conducted any outreach or programs for staffing the One-Call/One-Click Center?

v. Does the community have any capacity of using a shared-space to house the One-Call/One-Click Center?

3. Technical, Legal & Financial Capacity

Address all of the following points in the justification:

a. Technical capacity: Demonstrated commitment to coordination—Applicants who are willing to undertake further coordination tasks under their VTCLI proposals will have an increased chance of selection. Indicators of this commitment include:

i. Proposal elements to address the mobility and transportation challenges of veterans and military families through additional coordinated transportation strategies, such as mobility management, community transportation gap assessment, etc.

ii. Applicants should identify local technical assistance needs in order to effectively implement One-Call/One-Click Centers and further address veterans and/or military families' mobility needs in the coordinated public transit/human services transportation plan.

iii. Applicant proposes to update SAFETEA-LU required Coordination Plan as part of VTCLI implementation.

b. Legal capacity: Applicants must indicate that there are no legal issues which would prevent acceptance of FTA funds, their eligibility and authority to apply.

c. Financial capacity: Leveraging other funds—Proposals that leverage additional FTA, other federal, state, or local funds beyond the required local match will be scored favorably. Indicate the following:

i. Local match—As a Section 5309 grant program, the VTCLI will require a 20% local match. This match can be cash or in-kind;

ii. Additional FTA program funding identified—Mobility management, vehicle purchases, and vehicle modifications will not be eligible expenses under the VTCLI. Applicants in communities that have a need for accessible vehicles or mobility management resources are encouraged to update their coordinated plan and identify funds from other FTA grant programs, such as Section 5310, 5316 or 5317, to meet these needs;

iii. Additional Federal resources Aging and Disability Resource Center/Area Agencies on Aging (ADRC/AAA), One-Stop employment, VA, DoD, HHS funds, Vocational Rehabilitation/RSA) to be leveraged;

iv. Other non-Federal funding above and beyond local match (State funding, private donations, etc.); and

v. Identification of funding and plan for long-term sustainability, including the operation of the One Call Center.

4. Demonstration of Need

Applicants should leave the “Age of Asset” field blank and address the following points indicating the need for VTCLI funds in the justification field. State the size of the local veteran and military population and identify transportation and mobility needs of these populations. When available, provide quantitative support; otherwise narrative description of challenges and needs will suffice.

a. Questions to be addressed include:

i How large are the veterans/military communities in the project area to be served by the project?

ii. What are the specific transportation barriers and other challenges facing veterans and military families in the project's area?

iii. What portion of the veterans/military population in the project's area are people with disabilities?

iv. Where are the nearest veterans and military support services that support the project's area?

v. Identify the community's existing public, non-profit and private transportation providers.

vi. Demonstrate how the One-Call/One-Click Center will address the mobility needs of the above identified populations.

vii. Describe how veterans, especially disabled veterans, will be engaged in the development and operation of the project.

B. Submission Dates and Time

All proposals must be submitted electronically via GRANTS.GOV no later than September 16, 2011.

C. Funding Restrictions

Proposals must be submitted by FTA recipients eligible to receive FTA Section 5309 funds. Due to funding limitations, applicants that are selected for funding may receive less than the amount originally requested.

D. Proposal Selection and Notification Process

Proposals will first be screened by the FTA staff members. Following this initial review, eligible proposals will be submitted for a national review process and coordinated with representatives of VA, DoD, DOL and HHS. Proposals will be screened and ranked by an interagency review panel representing the above members of the Veterans Transportation and Community Living Initiative. Final decisions and allocation of FTA funds will be made by the FTA Administrator. Selected projects will be announced in November 2011.

VI. Award Administration

A. Award Notices

FTA will announce project selections in a Federal Register Notice and will post the Federal Register Notices on the Web. FTA regional offices will contact successful applicants. After receipt of a complete application, FTA will award grants for the selected projects to the proposer through the FTA Transportation Electronic Award Management System (TEAM). These grants will be administered and managed by the FTA regional offices in accordance with the Federal requirements of the Section 5309 bus program. At the time the project selections are announced, FTA will extend pre-award authority for the selected projects. There is no blanket pre-award authority for these projects prior to announcement.

B. Administrative and National Policy Requirements

1. Grant Requirements. If selected, applicants will apply for a grant through TEAM and adhere to the customary FTA grant requirements of the Section 5309 Bus and Bus Facilities program, including those of FTA C 9300.1A Circular and C 5010.1C and Section 5333(b) labor protections. Discretionary grants greater than $500,000 will go through Congressional Notification and Release Process. Technical assistance regarding these requirements is available from each FTA regional office.

2. Planning. Applicants are encouraged to notify the appropriate State Departments of Transportation and MPO in areas likely to be served by the project funds made available under this program. Incorporation of funded projects in the long range plans and transportation improvement programs of States and metropolitan areas is required of all funded projects.

3. Standard Assurances. The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and that modifications may affect the implementation of the project. The Applicant agrees that the most recent Federal requirements will apply to the project, unless FTA issues a written determination otherwise. The Applicant must submit the Certifications and Assurances before receiving a grant if it does not have current Certifications on file.

C. Reporting

Post-award reporting requirements include submission of Financial Status Reports and Milestone reports in TEAM on a quarterly basis for all projects. Documentation is required for payment. In addition, grants which include innovative technologies may be required to report on the performance of these technologies. Additional reporting may be required specific to the VTCLI and recipients may be expected to participate in events or peer networks related to the Initiative.

VIII. Agency Contacts

For general program information, as well as proposal-specific questions, please send an e-mail to VeteransTransportation@dot.gov or contact Doug Birnie, (202) 366-1666, or, Pamela Brown, (202) 493-2503. A TDD is available at 1-800-877-8339 (TDD/FIRS).

Applicants may also visit fta.dot.gov/veterans for frequently asked questions and answers.

Issued in Washington, DC, this 21st day of July 2011.
Peter Rogoff,
Administrator.

Appendix—FTA Regional and Metropolitan Offices
Mary Beth Mello, Regional Administrator, Region 1-Boston, Kendall Square, 55 Broadway, Suite 920, Cambridge, MA 02142-1093, Tel. 617-494-2055. | Brigid Hynes-Cherin, Regional Administrator, Region 2-New York, One Bowling Green, Room 429, New York, NY 10004-1415, Tel. 212-668-2170.
States served: Connecticut, Maine, Massachusetts, New Hampshire, Rhode Island, and Vermont. | States served: New Jersey, New York. New York Metropolitan Office, Region 2-New York, One Bowling Green, Room 428, New York, NY 10004-1415, Tel. 212-668-2202.
Letitia Thompson, Regional Administrator, Region 3-Philadelphia, 1760 Market Street, Suite 500, Philadelphia, PA 19103-4124, Tel. 215-656-7100. | Yvette Taylor, Regional Administrator, Region 4-Atlanta, 230 Peachtree Street, NW., Suite 800, Atlanta, GA 30303, Tel. 404-865-5600.
States served: Delaware, Maryland, Pennsylvania, Virginia, West Virginia, and District of Columbia. | States served: Alabama, Florida, Georgia, Kentucky, Mississippi, North Carolina, Puerto Rico, South Carolina, Tennessee, and Virgin Islands.
Philadelphia Metropolitan Office, Region 3-Philadelphia, 1760 Market Street, Suite 500, Philadelphia, PA 19103-4124, Tel. 215-656-7070.
Washington, DC Metropolitan Office, 1990 K Street, NW., Room 510, Washington, DC 20006, Tel. 202-219-3562.
Marisol Simon, Regional Administrator, Region 5-Chicago, 200 West Adams Street, Suite 320, Chicago, IL 60606, Tel. 312-353-2789. | Robert C. Patrick, Regional Administrator, Region 6-Ft. Worth, 819 Taylor Street, Room 8A36, Ft. Worth, TX 76102, Tel. 817-978-0550.
States served: Illinois, Indiana, Michigan, Minnesota, Ohio, and Wisconsin. | States served: Arkansas, Louisiana, Oklahoma, New Mexico and Texas.
Chicago Metropolitan Office, Region 5-Chicago, 200 West Adams Street, Suite 320, Chicago, IL 60606, Tel. 312-353-2789.
Mokhtee Ahmad, Regional Administrator, Region 7-Kansas City, MO, 901 Locust Street, Room 404, Kansas City, MO 64106, Tel. 816-329-3920. | Terry Rosapep, Regional Administrator, Region 8-Denver, 12300 West Dakota Ave., Suite 310, Lakewood, CO 80228-2583, Tel. 720-963-3300.
States served: Iowa, Kansas, Missouri, and Nebraska. | States served: Colorado, Montana, North Dakota, South Dakota, Utah, and Wyoming.
Leslie T. Rogers, Regional Administrator, Region 9-San Francisco, 201 Mission Street, Room 1650, San Francisco, CA 94105-1926, Tel. 415-744-3133. | Rick Krochalis, Regional Administrator, Region 10-Seattle, Jackson Federal Building, 915 Second Avenue, Suite 3142, Seattle, WA 98174-1002, Tel. 206-220-7954.
States served: American Samoa, Arizona, California, Guam, Hawaii, Nevada, and the Northern Mariana Islands | States served: Alaska, Idaho, Oregon, and Washington.
Los Angeles Metropolitan Office, Region 9-Los Angeles, 888 S. Figueroa Street, Suite 1850, Los Angeles, CA 90017-1850, Tel. 213-202-3952.

[FR Doc. 2011-18928 Filed 7-26-11; 8:45 am]

BILLING CODE P